DEPARTMENT OF COMMERCE

Foreign-Trade Zones Board

[B-98-2013]

Foreign-Trade Zone 93—Raleigh/Durham, North Carolina, Authorization of Production Activity, GlaxoSmithKline, PLC (Pharmaceutical Products), Zebulon, North Carolina

On November 18, 2013, the Triangle J Council of Governments, grantee of FTZ 93, submitted a notification of proposed production activity to the Foreign-Trade Zones (FTZ) Board on behalf of GlaxoSmithKline, PLC, within FTZ 93—Site 6, in Zebulon, North Carolina.

The notification was processed in accordance with the regulations of the FTZ Board (15 CFR part 400), including notice in the Federal Register inviting public comment (78 FR 70531-70532, 11-26-2013). The FTZ Board has determined that no further review of the activity is warranted at this time. The production activity described in the notification is authorized, subject to the FTZ Act and the Board's regulations, including Section 400.14.

Dated: March 18, 2014.
Andrew McGilvray,
Executive Secretary.

[FR Doc. 2014-06707 Filed 3-25-14; 8:45 am]

BILLING CODE 3510-DS-P